INTERNATIONAL TRADE COMMISSION

[USITC SE-17-049]

Government in the Sunshine Act Meeting Notice

Agency Holding the Meeting: United States International Trade Commission.

Time and Date: October 31, 2017 at 11:00 a.m.

Place: Room 101, 500 E Street SW., Washington, DC 20436, Telephone: (202) 205-2000.

Status: Open to the public.

Matters to be Considered:

1. Agendas for future meetings: None.

2. Minutes.

3. Ratification List.

4. Vote in Inv. No. TA-201-75 (Remedy) (Crystalline Silicon Photovoltaic Cells (Whether or Not Partially or Fully Assembled into Other Products)).

5. Outstanding action jackets: None.

In accordance with Commission policy, subject matter listed above, not disposed of at the scheduled meeting, may be carried over to the agenda of the following meeting.

By order of the Commission.
Issued: October 16, 2017.
William R. Bishop,
Supervisory Hearings and Information Officer.

[FR Doc. 2017-22690 Filed 10-16-17; 4:15 pm]

BILLING CODE 7020-02-P